DEPARTMENT OF ENERGY

Federal Energy Regulatory Commission

Combined Notice of Filings #1

Take notice that the Commission received the following electric corporate filings:

Docket Numbers: EC16-182-000.

Applicants: Llano Estacado Wind, LLC, Northern Iowa Windpower, LLC.

Description: Application for FPA Section 203 authorization of Llano Estacado Wind, LLC, and Northern Iowa Windpower, LLC.

Filed Date: 9/15/16.

Accession Number: 20160915-5135.

Comments Due: 5 p.m. ET 10/6/16.

Take notice that the Commission received the following exempt wholesale generator filings:

Docket Numbers: EG16-150-000.

Applicants: Pavant Solar II LLC.

Description: Notice of Self-Certification of Exempt Wholesale Generator Status of Pavant Solar II LLC.

Filed Date: 9/15/16.

Accession Number: 20160915-5099.

Comments Due: 5 p.m. ET 10/6/16.

Take notice that the Commission received the following electric rate filings:

Docket Numbers: ER10-3246-010; ER11-2044-020; ER10-2475-016; ER10-2474-016; ER12-162-017; ER15-2211-008; ER11-3876-020; ER13-520-008; ER13-521-008; ER13-1441-008; ER13-1442-008; ER12-1626-009; ER13-1266-011; ER13-1267-008; ER13-1268-008; ER13-1269-008; ER13-1270-008; ER13-1271-008; ER13-1272-008; ER13-1273-008; ER10-2611-018; ER10-2605-012; ER16-438-003; ER16-1258-001; ER12-922-004.

Applicants: PacifiCorp, MidAmerican Energy Company, Nevada Power Company, Sierra Pacific Power Company, Bishop Hill Energy II LLC, MidAmerican Energy Services, LLC, Cordova Energy Company LLC, Pinyon Pines Wind I, LLC, Pinyon Pines Wind II, LLC, Solar Star California XIX, LLC, Solar Star California XX, LLC, Topaz Solar Farms LLC, CalEnergy, LLC, CE Leathers Company, Del Ranch Company, Elmore Company, Fish Lake Power LLC, Salton Sea Power Generation Company, Salton Sea Power L.L.C., Vulcan/BN Geothermal Power Company, Saranac Power Partners, L.P., Yuma Cogeneration Associates, Marshall Wind Energy LLC, Grande Prairie Wind, LLC, Phillips 66 Company.

Description: Notice of Change in Status of PacifiCorp, et. al.

Filed Date: 9/14/16.

Accession Number: 20160914-5192.

Comments Due: 5 p.m. ET 10/5/16.

Docket Numbers: ER16-2594-000.

Applicants: Southern California Edison Company.

Description: § 205(d) Rate Filing: Amended SGIA Lancaster Little Rock C Project to be effective 11/16/2016.

Filed Date: 9/15/16.

Accession Number: 20160915-5122.

Comments Due: 5 p.m. ET 10/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2016.
Nathaniel J. Davis, Sr.,
Deputy Secretary.

[FR Doc. 2016-23158 Filed 9-23-16; 8:45 am]

BILLING CODE 6717-01-P